DEPARTMENT OF LABOR

Comment Request for Information Collection for Extension With Revisions

AGENCY: Employment and Training Administration, Labor.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about High Growth and Community-Based Job Training Grants OMB No. 1205-0465, which expires: 5/31/2011.

A copy of the proposed information collection request (ICR) can be obtained by contacting the office listed below in the ADDRESSES section of this notice.

DATES: Written comments must be submitted to the office listed in the ADDRESSES section below on or before March 7, 2011.

ADDRESSES: Submit written comments to Megan Baird, Room N-4643, Employment and Training Administration, 200 Constitution Avenue, NW., Washington, DC 20210. Telephone number: 202-693-3949 (this is not a toll-free number). Fax: 202-693-3890. E-mail: businessrelations@dol.gov. Please reference OMB Control Number 1205-0465 in the subject line of the e-mail.

SUPPLEMENTARY INFORMATION:

I. Background: This document provides the justification for the request by the Department of Labor, Employment and Training Administration (ETA) for an extension with revisions of OMB-approved quarterly progress reporting requirements for the High Growth Job Training Initiative (HGJTI) grants and the Community-Based Job Training (CBJT) grants. The OMB-approved HGJTI and CBJTG quarterly progress reporting requirements, OMB No. 1205-1465, expire May 31, 2011. Through the extension with renewal request, ETA will require grantees to submit standardized quarterly progress reports summarizing the number and types of participants served by grantees, the number of exiters, the number of participants engaged in training activities, and some participant outcomes. To calculate the common performance measures for each grantee and the grant programs as a whole, ETA will also require grantees to submit quarterly standardized records for exiters that contain the minimum number of elements needed to calculate common performance measure outcomes. These progress reporting requirements align with outcome categories identified in the SGAs used to award HGJTI and CBJT grants. The collection of this data helps ETA report the impact of these funds and provides ETA with more comprehensive information on the status of individual grants and individuals that receive services and find employment through these grants. The accuracy, reliability, and comparability of program reports submitted by grantees using federal funds are fundamental elements of good public administration and are necessary tools for maintaining and demonstrating system integrity. The use of a standard set of data elements, definitions, and specifications at all levels of the workforce system, including the HGJTI and CBJT grants, helps improve the quality of performance information that is received by ETA. This data also helps ETA provide more targeted technical assistance to support improvement of grantee outcomes. ETA will continue to provide HGJTI and CBJT grantees with a reporting system, the Enterprise Business Support System (EBSS), which will support the submission of quarterly progress reports to ETA, which include both a performance report (ETA-9134 Form) and narrative report.

II. Review Focus:

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions:

Type of Review: Extension with revisions.

Title: High Growth and Community-Based Job Training Grants.

OMB Number: 1205-0465.

Affected Public: High Growth Job Training Initiative and Community-Based Job Training grantees.

Form(s): ETA-9134.

Total Annual Respondents: 190.

Annual Frequency: Quarterly.

Total Annual Responses: 760.

Average Time per Response: 112.

Estimated Total Annual Burden Hours: 27,980.

Total Annual Burden Cost for Respondents: $0.

Comments submitted in response to this comment request will be summarized and/or included in the request for Office of Management and Budget approval of the information collection request; they will also become a matter of public record.

Signed: at Washington, DC this 28th day of December 2010.
Jane Oates,
Assistant Secretary, Employment and Training Administration.

[FR Doc. 2010-33266 Filed 1-4-11; 8:45 am]

BILLING CODE 4510-FN-P